DEPARTMENT OF AGRICULTURE

Forest Service

Chequamegon-Nicolet National Forest; Wisconsin, Grub Hoe Vegetation and Transportation Management Project

AGENCY: Forest Service, USDA.

ACTION: Notice of intent to prepare an environmental impact statement.

SUMMARY: The Eagle River-Florence Ranger District intends to prepare an environmental impact statement (EIS) to disclose the environmental consequences of proposed vegetation and transportation management activities. The Grub Hoe Vegetation and Transportation Management Project (Grub Hoe Project) area is approximately 11,640 acres in size; about 8,500 acres of this is National Forest System land. The project area is located in Florence County, 15 miles southwest of Florence, Wisconsin. The legal description is T39N, R15E, Sections 1, 2, 8-17, 22-24; T39N, R16E, Sections 5-7, 18, 19. See the SUPPLEMENTARY INFORMATION section for the purpose and need for the action.

DATES: Comments concerning the scope of the analysis should be received by October 24, 2008, to receive timely consideration. The draft environmental impact statement is expected January 2009, and the final environmental impact statement is expected March 2009.

ADDRESSES: Send written comments to District Ranger Joel Skerven, Eagle River-Florence Ranger District, Chequamegon-Nicolet National Forest, 1247 East Wall Street, Eagle River, WI 54521. For further information, mail correspondence to Christine Brunner, NEPA Coordinator, Eagle River-Florence Ranger District, 1247 East Wall Street, Eagle River, WI 54521.

SUPPLEMENTARY INFORMATION:

Purpose and Need for Action

The overall purpose of the Grub Hoe Project is to implement land management activities consistent with the direction in the 2004 Chequamegon-Nicolet National Forest Land and Resource Management Plan (Forest Plan). One purpose for this proposal is to maintain or restore upland forest communities and opening to their desired conditions as described in Chapter 3 of the Forest Plan; a second purpose is to provide an efficient road system. Based on the Forest Plan desired future conditions for the area, the following nine needs were identified: (1) Increase the diversity of northern hardwood forest structure and composition; (2) reduce fragmentation in larger patches of northern hardwood forest; improve aquatic ecosystems; (4) improve upland forest type composition; (5) improve the aspen age class distribution; (6) promote healthy forests; (7) improve habitat for early-successional forest dependent wildlife species; (8) contribute toward satisfying the demand for wood products; (9) provide a safe, efficient, and effective transportation system.

Proposed Action

In order to address the needs identified above, approximately 3326 acres of various forest types would be harvested using selection, removal, shelterwood, patch clearcut, clearcut, and thin harvest methods. As a result of clearcutting three contiguous aspen stands, this alternative would result in a temporary opening of approximately 73 acres. This deviates from a Forest Plan guideline to limit temporary openings to 40 acres.

The second purpose for this proposal is to provide an efficient road system that meets the long-term transportation needs of the Forest. In order to address need 9 above, approximately 20.8 miles of unclassified roads would be decommissioned; 3.9 miles would be reconstructed and classified; and 1.4 miles of new road would be constructed but closed after project activities are completed.

Possible Alternatives

Two alternatives to the Proposed Action have been developed in response to public comments received. One alternative would result in the following changes to the Proposed Action: Eliminate aspen conversions to other forest types in all but three stands, clearcutting and regenerating them to aspen instead; clearcut and regenerate the two stands identified for patch clearcutting under the Proposed Action; clearcut and regenerate an additional three aspen stands. This alternative would also result in a temporary opening of approximately 73 acres.

Under a second alternative the following activities would be deferred: harvesting stands of aspen forest type; potential salvage harvesting; harvesting within 124 acres of historic or current goshawk or red-shouldered hawk nest sites (the Forest Plan requires at minimum a 30-acre nest buffer); road construction and reconstruction.

Responsible Official

The responsible official for this project is Joel Skjerven, Eagle River-Florence District Ranger, 1247 E. Wall Street, Eagle River, WI 54521.

Nature of Decision To Be Made

The decision will be limited to answering the following questions based on the environmental analysis: (1) What actions would be used to address the purpose and need; (2) where and when will these actions occur; and (3) what mitigation measures and monitoring requirements would be required.

Scoping Process

The Chequamegon-Nicolet Forest began the scoping process for this project as an environmental assessment during May 2008. Persons and organizations on the District's mailing list were sent information packages, and a notice was placed in the newspaper of record. The project is listed in the Chequamegon-Nicolet Schedule of Proposed Actions, and is viewable on the Forest Web page at http://www.fs.fed.us/r9/cnnf/. Click on “Project Proposals and Decisions,” then “Grub Hoe Vegetation and Transportation Management Project.”

Preliminary Issues

The following issues will be analyzed in the EIS: Effects of the proposed activities on soils, water, Regional Forester Sensitive Species plants and wildlife, and non-native invasive species.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: September 15, 2008.
Jeanne M. Higgins,
Forest Supervisor.

[FR Doc. E8-22340 Filed 9-23-08; 8:45 am]

BILLING CODE 3410-11-P